DEPARTMENT OF THE INTERIOR

National Park Service

[NPS-WASO-NRNHL-DTS#-33519; PPWOCRADI0, PCU00RP14.R50000]

National Register of Historic Places; Notification of Pending Nominations and Related Actions

AGENCY: National Park Service, Interior.

ACTION: Notice.

SUMMARY: The National Park Service is soliciting electronic comments on the significance of properties nominated before March 5, 2022, for listing or related actions in the National Register of Historic Places.

DATES: Comments should be submitted electronically by April 4, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 5, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

GEORGIA

Floyd County

Coosa Country Club Golf Course, 110 Branham Ave SW, Rome, SG100007578

ILLINOIS

Cook County

Altgeld Gardens-Philip Murray Homes Historic District, East 130th, East 133rd, and East 134th Sts., East 130th and East 133rd Pls., South Greenwood and South St. Lawrence Aves., Chicago, SG100007590

Jersey County

Grafton Boat Works, 400 Front St., Grafton, SG100007582

Kane County

Mary A. Todd School, 100 Oak Ave., Aurora, SG100007584

Abraham Lincoln School, 641 South Lake St., Aurora, SG100007585

Winnebago County

Rockford Brass Works, 700 South Main St., Rockford, SG100007583

Christenson-Anderson Farm, 15813 Anderson Rd., Durand vicinity, SG100007586

LOUISIANA

Orleans Parish

Our Lady of Lourdes Parish Complex, 2400 Napoleon Ave., New Orleans, SG100007587

West Baton Rouge Parish

Stone Square Lodge No. 8, 1044 Michigan Ave., Port Allen, SG100007604

MAINE

Franklin County

Morrill Homestead, 17 Lucy Knowles Rd., Chesterville, SG100007580

MICHIGAN

Chippewa County

Garfield School, 510 East Spruce St., Sault Ste. Marie, SG100007579

Kent County

Sisters of the Order of Saint Dominic Motherhouse Complex, 2025 Fulton St., East Grand Rapids, SG100007588

NORTH CAROLINA

Alamance County

Aurora Cotton Mills Finishing Plant-Baker-Cammack Hosiery Mills Plant, 741 East Webb Ave., Burlington, SG100007592

Gaston County

Dallas Historic District (Boundary Increase), All or portions of Balthis, North Cedar, West Church, North Hoffman, Lewis, West Main, North Maple, McSwain, North and South Oakland, South Pine, Puett, West Trade, West Wilkins and Worth Sts., Brookgreen and Queens Drs., Dallas, BC100007593

Iredell County

Watkins Chapel AME Zion Church, 505 Cascade St., Mooresville, SG100007596

Lincoln County

Black Ox-Duplan Corporation Mill, 215 Bonview Ave., Lincolnton, SG100007598

Macon County

Skyline Lodge, 470 Skyline Lodge Rd., Highlands vicinity, SG100007591

Randolph County

Asheboro Downtown Historic District, Portions of Church, Fayetteville, Hoover, North, Salisbury, White Oak, and Worth Sts., Sunset Ave., Asheboro, SG100007595

Rowan County

Southern Railway Passenger Car Number 1211, 1 Samuel Spencer Dr., Spencer, SG100007594

Surry County

Pilot Mountain Downtown Historic District, Portions of 100 and 200 blks. East Main, 100 blk. West Main, 100 blk. Depot, 100 blk. West Marian, and 100 blk. South Stephens Sts., Pilot Mountain, SG100007599

Wake County

Zebulon Historic District, Roughly bounded by North Arendell and East Gannon Aves., North Gill, East Horton, West Judd, East and West Sycamore, West Vance, North Wakefield, and North Whitley Sts., Rotary Dr., and former Raliegh and Pamlico Sound RR tracks, Zebulon, SG100007603

TEXAS

Presidio County

Central Marfa Historic District, Roughly bounded by Washington, Dallas, Dean, Russell, Austin and Abbott Sts., Marfa, SG100007597

VIRGINIA

Fairfax County

Mount Vernon Enterprise Lodge #3488-Pride of Fairfax County Lodge #298, 7809 Fordson Rd., Alexandria vicinity, SG100007613

Manassas Independent City

Annaburg, 9201 Maple St., Manassas, SG100007614

WEST VIRGINIA

Hampshire County

West Virginia Schools for the Deaf and the Blind Dairy Barn, 199 Depot St., Romney, SG100007605

Monongalia County

Richwood Avenue Wall, (New Deal Stone Resources in Morgantown, Monongalia County, WV, 1932-1943 MPS), Richwood Ave. along Whitmore Park, Morgantown, MP100007608

Deckers Creek Wall, (New Deal Stone Resources in Morgantown, Monongalia County, WV, 1932-1943 MPS), Deckers Creek, Morgantown, MP100007609

Eighth Street Stone Retaining Walls, (New Deal Stone Resources in Morgantown, Monongalia County, WV, 1932-1943 MPS), 305 and 321 8th St., Morgantown, MP100007610

Ohio County

Wheeling Warehouse Historic District (Boundary Increase), Roughly bounded by Main, 20th, and east side of Market Sts., and Wheeling Cr., Wheeling, BC100007606

Preston County

Terra Alta First United Methodist Church, 301 West State Ave., Terra Alta, SG100007611

Tucker County

Buxton and Landstreet Company Store, 571 Douglas Rd., Thomas, SG100007612

Additional documentation has been received for the following resource:

WISCONSIN

Kewaunee County

Marquette Historic District (Additional Documentation), Roughly bounded by Lake Michigan and Center, Juneau and Lincoln Sts., Kewaunee, AD93001167

Nomination submitted by Federal Preservation Officer:

The State Historic Preservation Officer reviewed the following nomination and responded to the Federal Preservation Officer within 45 days of receipt of the nomination and supports listing the property in the National Register of Historic Places.

MAINE

Hancock County

Mount Desert Island Hiking Trail System, (Acadia National Park MPS), Acadia NP, P.O. Box 177, Bar Harbor, Bar Harbor vicinity, MP100007602

Mount Desert Island Hiking Trail System, (Acadia National Park MPS), Acadia NP, P.O. Box 177, Bar Harbor, Tremont vicinity, MP100007602

Mount Desert Island Hiking Trail System, (Acadia National Park MPS), Acadia NP, P.O. Box 177, Bar Harbor, Mount Desert, vicinity, MP100007602

Mount Desert Island Hiking Trail System, (Acadia National Park MPS), Acadia NP, P.O. Box 177, Bar Harbor, Southwest Harbor vicinity, MP100007602

Authority: Section 60.13 of 36 CFR part 60.

Dated: March 8, 2022.
Sherry A. Frear,
Chief, National Register of Historic Places/National Historic Landmarks Program.

[FR Doc. 2022-05697 Filed 3-17-22; 8:45 am]

BILLING CODE 4312-52-P